DEPARTMENT OF THE INTERIOR

Bureau of Land Management

[AZ-910-0777-XP-241A]

State of Arizona Resource Advisory Council Meeting

AGENCY: Bureau of Land Management, Interior.

ACTION: Notice of Arizona Resource Advisory Council Meeting.

SUMMARY: In accordance with the Federal Land Policy and Management Act of 1976 and the Federal Advisory Committee Act of 1972, the U.S. Department of the Interior, Bureau of Land Management (BLM), Arizona Resource Advisory Council (RAC), will meet on September 6, 2007, in Phoenix, Arizona, at the BLM National Training Center located at 9828 North 31st Avenue in Phoenix from 8 a.m. and conclude at 4:30 p.m. Morning agenda items include: Review of the June 8, 2007, meeting minutes for RAC and Recreation Resource Advisory Council (RRAC) business; BLM State Director's update on statewide issues; presentations on: the BLM wilderness program in Arizona, how recreation benefits communities, and Arizona water rights; RAC questions on BLM Field Managers Rangeland Resource Team proposals; and, reports by RAC working groups. A public comment period will be provided at 11:30 a.m. on September 6, 2007, for any interested publics who wish to address the Council on BLM programs and business.

Under the Federal Lands Recreation Enhancement Act, the RAC has been designated the RRAC, and has the authority to review all BLM and Forest Service (FS) recreation fee proposals in Arizona. The afternoon meeting agenda on September 6 will include discussion and review of the Recreation Enhancement Act (REA) Working Group Report, the Fiscal Year 2008 (Tentative) quarterly schedule for BLM and FS recreation fee proposals, and one FS fee proposal in Arizona:

(1) Upper Salt River Canyon Wilderness Private River Permit System—(Tonto National Forest). The Forest Service is considering a change for the Private Permit Fees for running the Upper Salt River through the Salt River Canyon Wilderness from March 1 to May 15 each year. The application fee of $10 will remain the same. The permit fee is proposed from the current $75 to a fee of $125. The purpose of the proposed fee increase is to help better cover the cost of managing the river program for the Upper Salt River Canyon Wilderness. The proposed fees are in line with those charged by other Forest Service and Federal Government agencies for similar river permits in the western United States.

Following the FS proposals, the RRAC will open the meeting to public comments on the fee proposal. After completing their RRAC business, the BLM RAC will reconvene to provide recommendations to the RAC Designated Federal Official on the fee proposal and discuss future RAC meetings and locations.

DATES: Effective Date: September 6, 2007.

FOR FURTHER INFORMATION CONTACT: Deborah Stevens, Bureau of Land Management, Arizona State Office, One North Central Avenue, Suite 800, Phoenix, Arizona 85004-4427, 602-417-9504.

Elaine Y. Zielinski,
State Director.

[FR Doc. 07-4026 Filed 8-16-07; 8:45 am]

BILLING CODE 4310-32-M